DEPARTMENT OF COMMERCE

Foreign-Trade Zones Board

[Order No. 1109]

Approval for Expanded Manufacturing Authority (Postage Franking Machines and Electronic Business Equipment) Within Foreign—Trade Subzone 77B, Brother Industries (U.S.A.) Inc., Bartlett, TN

Pursuant to its authority under the Foreign-Trade Zones Act of June 18, 1934, as amended (19 U.S.C. 81a-81u), the Foreign-Trade Zones Board (the Board) adopts the following Order:

Whereas, the City of Memphis, Tennessee, grantee of Foreign-Trade Zone 77, has applied to expand the scope of manufacturing authority for FTZ Subzone 77B (Brother Industries (U.S.A.) Inc. facilities in Bartlett, Shelby County, Tennessee) to include production of postage franking machines and electronic business equipment under FTZ procedures (FTZ Doc. 50-99; filed 10-18-99);

Whereas, notice inviting public comment was given in Federal Register (64 FR 60766, 11-8-99); and,

Whereas, the Board adopts the findings and recommendations of the examiner's report, and finds that the requirements of the FTZ Act and Board's regulations are satisfied, and that approval of the application is in the public interest;

Now, Therefore, the Board hereby approves the request subject to the FTZ Act and the Board's regulations, including Section 400.28.

Signed at Washington, DC, this 26th day of June 2000.
Troy H. Cribb,
Acting Assistant Secretary of Commerce for Import Administration, Alternate Chairman, Foreign-Trade Zones Board.
Attest:
Dennis Puccinelli,
Acting Executive Secretary.

[FR Doc. 00-17107 Filed 7-5-00; 8:45 am]

BILLING CODE 3510-DS-P